NATIONAL AERONAUTICS AND SPACE ADMINISTRATION

[Notice: (02-010)]

Agency Information Collection

AGENCY: National Aeronautics and Space Administration (NASA).

ACTION: Notice of agency report forms under OMB review.

SUMMARY: The National Aeronautics and Space Administration, as part of its continuing effort to reduce paperwork and respondent burden, invites the general public and other Federal agencies to take this opportunity to comment on proposed and/or continuing information collections, as required by the Paperwork Reduction Act of 1995 (Pub. L. 104-13, 44 U.S.C. 3506(c)(2)(A)). This information collection is required to ensure proper accounting of Federal funds and property provided under cooperative agreements with commercial firms.

DATES: Comments on this proposal should be received on or before March 1, 2002.

ADDRESSES: All comments should be addressed to Desk Officer for NASA; Office of Information and Regulatory Affairs; Office of Management and Budget; Room 10236; New Executive Office Building; Washington, DC, 20503.

FOR FURTHER INFORMATION CONTACT: Ms. Nancy Kaplan, NASA Reports Officer, (202) 358-1372.

Title: Cooperative Agreements with Commercial Firms.

OMB Number: 2700-0092.

Type of review: Extension.

Need and Uses: Reporting and recordkeeping are prescribed under 14 CFR part 1274. Information collected ensures the accountability of public funds and proper maintenance of an appropriate internal control system.

Affected Public: Business or other for-profit.

Number of Respondents: 107.

Responses Per Respondent: 6.

Annual Responses: 658.

Hours Per Request: 7.

Annual Burden Hours: 4,592.

Frequency of Report: On occasion.

David B. Nelson,
Deputy Chief Information Officer, Office of the Administrator.

[FR Doc. 02-2190 Filed 1-29-02; 8:45 am]

BILLING CODE 7510-01-P